DEPARTMENT OF JUSTICE

Antitrust Division

Notice Pursuant to the National Cooperative Research and Production Act of 1993—Z-Wave Alliance, Inc.

Notice is hereby given that, on October 6, 2021, pursuant to Section 6(a) of the National Cooperative Research and Production Act of 1993, 15 U.S.C. 4301 et seq. (“the Act”), Z-Wave Alliance, Inc. (the “Joint Venture”) filed written notifications simultaneously with the Attorney General and the Federal Trade Commission disclosing changes in its membership. The notifications were filed for the purpose of extending the Act's provisions limiting the recovery of antitrust plaintiffs to actual damages under specified circumstances.

Specifically, DEN Smart Home, Enchede, THE NETHERLANDS; Evalan BV, Amsterdam, THE NETHERLANDS; Guangzhou MCOHome Technology Co., LTD, Guangzhou, PEOPLE'S REPUBLIC OF CHINA; Hubbell, Shelton, CT; Shenzhen Sunricher Technology Limited, Shenzhen, PEOPLE'S REPUBLIC OF CHINA; Shenzhen ZVIDAR Technologies CO., LTD., Shenzhen City, PEOPLE'S REPUBLIC OF CHINA; Takacs Milan EV, Szigetmonostor, HUNGARY; and Worthington Distribution, Tafton, PA have joined as parties to the venture. Also, Ohlandt Consulting, Laytonsville, MD; Lynx Integrated Systems, Malaga, AUSTRALIA; Remote Technologies Inc, Shakopee, MN; Smart Dalton, Riyadh, SAUDI ARABIA; Custom Smart Automation, West Hoxton, AUSTRALIA; Nanjing IoTx Intelligent Technology Co., Ltd., Nanjing, PEOPLE'S REPUBLIC OF CHINA; Brittworks, Richmond, CA; Askey Computer Group, New Taipei City, TAIWAN; Guangzhou MCOHome Technology Co., LTD, Guangzhou, PEOPLE'S REPUBLIC OF CHINA; Spectrum Smart Solutions LLC, Ajman, UNITED ARAB EMIRATES; KJ Robotics, Hedehusene, DENMARK; Coqon GmbH, Bonn, GERMANY; Life2Better, Buenos Aires, ARGENTINA; and Smart at Home, Pullenvale, AUSTRALIA have withdrawn as parties to the venture.

In addition, Smart Home SA, Gland, SWITZERLAND was mistakenly reported on the last filing (86 FR 47150) as a withdrawn party to this venture, and remains as an existing party to this venture.

No other changes have been made in either the membership or planned activity of the group research project. Membership in this group research project remains open, and the Joint Venture intends to file additional written notifications disclosing all changes in membership.

On November 19, 2020, the Joint Venture filed its original notification pursuant to Section 6(a) of the Act. The Department of Justice published a notice in the Federal Register pursuant to Section 6(b) of the Act on December 1, 2020 (85 FR 77241).

The last notification was filed with the Department on July 16, 2021. A notice was published in the Federal Register pursuant to Section 6(b) of the Act on August 23, 2021 (86 FR 47150).

Suzanne Morris,
Chief, Premerger and Division Statistics, Antitrust Division.

[FR Doc. 2021-24380 Filed 11-5-21; 8:45 am]

BILLING CODE 4410-11-P